INTERNATIONAL TRADE COMMISSION

[Investigation No. 731-TA-749 (Review)]

Persulfates From China

Determination

On the basis of the record ¹ developed in the subject five-year review, the United States International Trade Commission determines, pursuant to section 751(c) of the Tariff Act of 1930 (19 U.S.C. 1675(c)), that revocation of the antidumping duty order on persulfates from China would be likely to lead to continuation or recurrence of material injury to an industry in the United States within a reasonably foreseeable time.

¹ The record is defined in sec. 207.2(f) of the Commission's Rules of Practice and Procedure (19 CFR 207.2(f)).

Background

On September 6, 2002, the Commission determined that the domestic interested party group response to its notice of institution (67 FR 38333, June 3, 2002) was adequate and the respondent interested party group response was inadequate. The Commission did not find any other circumstances that would warrant conducting a full review.² Accordingly, the Commission determined that it would conduct an expedited review pursuant to section 751(c)(3) of the Act. The Commission transmitted its determination in this review to the Secretary of Commerce on October 31, 2002. The views of the Commission are contained in USITC Publication 3555 (October 2002), entitled Persulfates From China: Investigation No. 731-TA-749 (Review).

² A record of the Commissioners' votes, the Commission's statement on adequacy, and any individual Commissioner's statements is available from the Office of the Secretary and at the Commission's Web site.

Issued: October 23, 2002.
By order of the Commission.
Marilyn R. Abbott,
Secretary to the Commission.

[FR Doc. 02-27436 Filed 10-28-02; 8:45 am]

BILLING CODE 7020-02-P